DEPARTMENT OF HEALTH AND HUMAN SERVICES

Office of the Secretary

[Document Identifier HHS-OS-18521-30D]

Agency Information Collection Activities; Proposed Collection; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB). The ICR is for a new collection. Comments submitted during the first public review of this ICR will be provided to OMB. OMB will accept further comments from the public on this ICR during the review and approval period.

DATES: Comments on the ICR must be received on or before May 2, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the document identifier HHS-OS-18521-30D for reference.

Information Collection Request Title: Evaluation of Implementation of the Viral Hepatitis Action Plan.

Abstract: In response to the viral hepatitis epidemic in the United States, the Department of Health and Human Services (HHS) released the Action Plan for the Prevention, Care, and Treatment of Viral Hepatitis (Action Plan) in May 2011 to provide a comprehensive strategic plan to address viral hepatitis B and C. Implementation of the Action Plan requires actions across a variety of agencies including national, state/local government, community-based organizations, and the private sector. The Evaluation of Implementation of the Viral Hepatitis Action Plan will assess state and local response to and activities that support the Action Plan, identify barriers to implementation and strategies to address these barriers, and inform future viral hepatitis efforts.

Need and Proposed Use of the Information: The purpose of this project is to evaluate the state and local response to and implementation of the Action Plan and examine viral hepatitis activities that are occurring in the four jurisdictions that have been pre-selected for the evaluation: Alabama, Massachusetts, New York, and Washington State. The information collected through the evaluation will position OASH to better understand implementation of the Action Plan at the state and local levels and barriers that might be occurring in the selected jurisdictions. The evaluation will also serve to examine the landscape of viral hepatitis activities that are taking place in the selected jurisdictions. The results of the evaluation will enable OASH to understand and identify potential strategies to strengthen local implementation of the Action Plan, address barriers, and inform future implementation efforts.

Likely Respondents: State Viral Hepatitis Prevention Coordinators (CDC-funded state health department staff); other state and local health department stakeholders such as HIV and Immunization Program staff; national organization representatives who are involved in viral hepatitis program development and advocacy; local viral hepatitis stakeholders including health care and substance abuse treatment providers, non-profit community-based organization staff and volunteers, and others identified by the State Viral Hepatitis Prevention Coordinator (see above).

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Adult Viral Hepatitis Prevention Coordinators | 4 | 1 | 1.5 | 6
State and local health departments | 16 | 1 | 45/60 | 12
Community-based organizations | 12 | 1 | 30/60 | 6
National organizations | 12 | 1 | 30/60 | 6
Correctional facilities | 12 | 1 | 30/60 | 6
Healthcare providers | 12 | 1 | 30/60 | 6
Total |  |  |  | 42

Keith A. Tucker,
Information Collection Clearance Officer.

[FR Doc. 2013-07541 Filed 4-1-13; 8:45 am]

BILLING CODE 4150-47-P